ENVIRONMENTAL PROTECTION AGENCY

40 CFR Part 300

[EPA-HQ-SFUND-1986-0008, Notice 3; FRL-8706-1]

National Oil and Hazardous Substance Pollution Contingency Plan National Priorities List

AGENCY: Environmental Protection Agency.

ACTION: Notice of Deletion of the Double Eagle Refinery Co. Superfund Site From the National Priorities List.

SUMMARY: The Environmental Protection Agency (EPA) Region 6 announces the deletion of the Double Eagle Refinery Co. Superfund Site (Site) located in Oklahoma City, Oklahoma, from the National Priorities List (NPL). The NPL, promulgated pursuant to section 105 of the Comprehensive Environmental Response, Compensation, and Liability Act (CERCLA) of 1980, as amended, is found at Appendix B of 40 CFR part 300 which is the National Oil and Hazardous Substances Pollution Contingency Plan (NCP). The EPA and the State of Oklahoma, through the Oklahoma Department of Environmental Quality, have determined that all appropriate response actions under CERCLA, other than operation, maintenance, and five-year reviews, have been completed. However, this deletion does not preclude future actions under Superfund.

DATES: Effective Date: This action is effective August 21, 2008.

ADDRESSES: EPA has established a docket for this action under Docket Identification No. EPA-HQ-SFUND-1986-0008, Notice 3. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the site information repositories. Locations, contacts, phone numbers and viewing hours are:

U.S. EPA Region 6, 1445 Ross Avenue, Suite 700, Dallas, Texas 75202-2733, (214) 665-8157, by appointment only Monday through Friday 9 a.m. to 12 p.m. and 1 p.m. to 4 p.m.

Ralph Ellison Library, 2000 Northeast 23, Oklahoma City, Oklahoma 73111, (409) 643-5979, Monday through Wednesday 9 a.m. to 9 p.m., Thursday and Friday 9 a.m. to 6 p.m., Saturday 10 a.m. to 4 p.m.

Oklahoma Department of Environmental Quality (ODEQ), 707 North Robinson, Oklahoma City, Oklahoma 73101, (512) 239-2920, Monday through Friday 8 a.m. to 5 p.m.

FOR FURTHER INFORMATION CONTACT: Bartolome Canellas (6SF-RL), Remedial Project Manager, U.S. Environmental Protection Agency, Region 6, U.S. EPA, 1445 Ross Avenue, Dallas, Texas 75202, (214) 665-6662 or 1-800-533-3508 or canellas.bart@epa.gov.

SUPPLEMENTARY INFORMATION: The site to be deleted from the NPL is: Double Eagle Refinery Co., Oklahoma City, Oklahoma. A Notice of Intent to Delete for this Site was published in the Federal Register on June 13, 2008.

The closing date for comments on the Notice of Intent to Delete was July 14, 2008. One public comment was received. The commenter questioned the completeness of the response action based on information found in non-EPA Internet Web sites. EPA believes the deletion is appropriate, since the response action has been implemented, as documented in the Deletion Docket. A responsiveness summary was prepared and placed in the docket, EPA-HQ-SFUND-1986-0008, Notice 3, on http://www.regulations.gov, and in the local repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: August 12, 2008.
Richard E. Greene,
Regional Administrator, Region 6.

For reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing the entry under OK for “Double Eagle Refinery Co.”, “Oklahoma City”.

[FR Doc. E8-19420 Filed 8-20-08; 8:45 am]

BILLING CODE 6560-50-P